DEPARTMENT OF COMMERCE

International Trade Administration

[A-570-992]

Monosodium Glutamate From the People's Republic of China: Preliminary Affirmative Determination of Circumvention

AGENCY: Enforcement and Compliance, International Trade Administration, Department of Commerce.

SUMMARY: The U.S. Department of Commerce (Commerce) preliminarily determines that imports of monosodium glutamate (MSG) completed in Malaysia using glutamic acid produced in the People's Republic of China (China) are circumventing the antidumping duty (AD) order on MSG from China. Interested parties are invited to comment on this preliminary determination.

DATES: Applicable February 21, 2025.

FOR FURTHER INFORMATION CONTACT: Thomas Cloyd or Jacob Saude, AD/CVD Operations, Office VII, Enforcement and Compliance, International Trade Administration, U.S. Department of Commerce, 1401 Constitution Avenue NW, Washington, DC 20230; telephone: (202) 482-1246 or (202) 482-0981, respectively.

SUPPLEMENTARY INFORMATION:

Background

On January 6, 2015, Commerce published in the Federal Register the AD order on MSG from China.¹ On May 15, 2024, in response to a request from Ajinomoto Health and Nutrition North America, Inc. (Ajinomoto NA), a domestic interested party, Commerce initiated this country-wide circumvention inquiry to determine whether imports of MSG completed in Malaysia using glutamic acid produced in China are circumventing the Order and, accordingly, should be covered by the scope of the Order, pursuant to section 781(b) of the Tariff Act of 1930, as amended (the Act).² In September 2024, Commerce selected Ajinoriki MSG (Malaysia) Sdn Bhd (Ajinoriki) as a mandatory respondent in this circumvention inquiry.³ On December 18, 2024, Commerce received a covered merchandise referral from U.S. Customs and Border Protection (CBP) regarding CBP EAPA Investigation No. 7950, which concerns the Order.⁴ Specifically, CBP requested that Commerce issue a determination as to whether MSG, finished in Malaysia by Ajinoriki using glutamic acid produced in China, and subsequently exported from Malaysia to the United States is subject to the Order (i.e., the covered merchandise referral specified that the products at issue were those specified in this circumvention inquiry).⁵ Notice of this referral was published in the Federal Register on January 14, 2025.⁶ In that notice, Commerce explained that, because the covered merchandise referral requests a determination on merchandise identified in a request for a circumvention inquiry previously submitted to Commerce and currently under consideration, it would address the covered merchandise referral and Ajinomoto NA's circumvention inquiry request in the ongoing circumvention inquiry.⁷ For a complete description of events that followed the initiation of this circumvention inquiry, see the Preliminary Decision Memorandum.⁸

¹ See Monosodium Glutamate from the People's Republic of China: Second Amended Final Determination of Sales at Less Than Fair Value and Amended Antidumping Order, 80 FR 487 (January 6, 2015) (Order).

² See Monosodium Glutamate from the People's Republic of China: Initiation of Circumvention Inquiry on the Antidumping Duty Order, 89 FR 42425 (May 15, 2024) (Initiation Notice).

³ See Memorandum, “Respondent Selection,” dated September 5, 2024.

⁴ See Memorandum, “Receipt of Covered Merchandise Referral and Placement of Covered Merchandise Referral Documents on the Record,” dated January 7, 2025.

⁵ Id.

⁶ See Monosodium Glutamate from the People's Republic of China: Notice of Intent To Address Covered Merchandise Referral In Ongoing Circumvention Inquiry, 90 FR 3183 (January 14, 2025).

⁷ Id.

⁸ See Memorandum, “Preliminary Decision Memorandum for the Circumvention Inquiry of the Antidumping Duty Order on Monosodium Glutamate from the People's Republic of China,” dated concurrently with, and hereby adopted by, this notice (Preliminary Decision Memorandum).

Scope of the Order

The scope of this order covers MSG, whether or not blended or in solution with other products. For a complete description of the scope of the Order, see the Preliminary Decision Memorandum.

Merchandise Subject to the Circumvention Inquiry

This circumvention inquiry covers MSG finished in Malaysia using glutamic acid produced in China and subsequently exported from Malaysia to the United States (inquiry merchandise).

Methodology

Commerce is conducting this circumvention inquiry in accordance with section 781(b) of the Act, and 19 CFR 351.226(i). Because China is a non-market economy country within the meaning of section 771(18) of the Act, Commerce relied on surrogate values to value the purchases of Chinese inputs, as discussed in section 773(c) of the Act. Commerce relied on facts available under section 776(a) of the Act, including facts available with adverse inferences under section 776(b) of the Act with respect the following companies (the non-responsive companies) that did not timely respond to Commerce's quantity and value questionnaire: Ajinoriki MSG Sdn Bhd, Aruni Enterprise M Sdn Bhd, Habita Foods Industries Sdn Bhd, Delisauce World Foods Sdn Bhd, Suntraco Food Industries Sdn Bhd, Yeo Hiap Seng (Malaysia) Berhad, Bidor Kwong Heng Sdn Bhd, and Scigate Industries 002998063-A. Based on facts available with an adverse inference, Commerce preliminarily determines that finished MSG exported by the non-responsive companies is completed in Malaysia using glutamic acid produced in China, and thus, is circumventing the Order. Furthermore, as adverse facts available (AFA), Commerce has preliminary determined to suspend liquidation and require a cash deposit of estimated duties at the applicable rate for each unliquidated entry of the product not yet suspended, entered, or withdrawn from warehouse for consumption prior to the date of publication of the notice of initiation of the inquiry.

For a complete description of the methodology underlying this circumvention inquiry, see the Preliminary Decision Memorandum. A list of topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

As detailed in the Preliminary Decision Memorandum, Commerce preliminarily determines that MSG assembled or completed in Malaysia using glutamic acid produced in China and subsequently exported from Malaysia to the United States is circumventing the Order on a country-wide basis. As a result, in accordance with section 781(b) of the Act, we preliminarily determine that the inquiry merchandise should be included within the scope of the Order. See the “Suspension of Liquidation and Cash Deposit Requirements” section below for details regarding suspension of liquidation and cash deposit requirements. See the “Certifications” and “Certification Requirements” sections below for details regarding the use of certifications for inquiry merchandise imported from Malaysia.

Suspension of Liquidation

Based on the preliminary affirmative country-wide determination of circumvention, in accordance with 19 CFR 351.226(l)(2)(i) and (ii), Commerce will direct CBP to continue the suspension of liquidation of previously suspended entries, and to suspend liquidation and require a cash deposit of estimated antidumping duties on unliquidated entries of inquiry merchandise that were entered, or withdrawn from warehouse, for consumption on or after May 15, 2024, the date of publication of the initiation of this circumvention inquiry in the Federal Register.⁹

⁹ See Initiation Notice.

Moreover, pursuant to 19 CFR 351.226(l)(2)(iii)(B), because Commerce is addressing a covered merchandise referral in this circumvention inquiry, the suspension of liquidation rules under 19 CFR 351.227(l)(2)(iii) apply. Under that section, Commerce “normally will direct {CBP} to begin the suspension of liquidation and require a cash deposit of estimated duties, at the applicable rate, for each unliquidated entry of the product not yet suspended, entered, or withdrawn from warehouse, for consumption prior to the date of publication of the notice of initiation of the covered merchandise inquiry.” ¹⁰ As such, with respect to Ajinoriki, Commerce will direct CBP to begin suspension of liquidation and require a cash deposit on unliquidated entries entered, or withdrawn from warehouse, prior to May 15, 2024. Likewise, Commerce is also directing CBP, as AFA, to begin suspension of liquidation and require a cash deposit on the unliquidated entries of the non-responsive companies entered or withdrawn from warehouse prior to May 15, 2024.¹¹

¹⁰ 19 CFR 351.227(l)(2)(iii).

¹¹ As noted above, based on AFA, Commerce preliminarily determines that finished MSG exported by the non-responsive companies are circumventing the Order and that it is appropriate to suspend liquidation and require cash deposits of entries made prior to the date of publication of the notice of initiation of the circumvention inquiry.

MSG produced in Malaysia that does not use Chinese-produced glutamic acid is not subject to this inquiry. Therefore, cash deposits are not required for such merchandise under the Order. If an importer imports MSG from Malaysia and claims that the MSG was not produced with Chinese-produced glutamic acid, to not be subject to the suspension of liquidation and cash deposit requirements under the Order, the importer is required to meet the certification and documentation requirements described in the “Certifications” and “Certification Requirements” sections below.

Where no certification is provided for an entry, and the Order potentially applies to that entry, Commerce intends to instruct CBP to suspend the liquidation of the entry under CBP case number A-557-992-000. Further, Commerce intends to instruct CBP to collect a cash deposit for estimated antidumping duties at a rate equal to the cash deposit rate for the China-wide entity, i.e., 56.54 percent.¹² These suspension of liquidation and cash deposit requirements will remain in effect until further notice.

¹² See Monosodium Glutamate from the People's Republic of China: Final Results of Antidumping Duty Administrative Review; 2017-2018, 85 FR 9736 (February 20, 2020).

Certified Entries

An entry for which the importer has met the certification requirements described below and in Appendix II to this notice will not be subject to either the suspension of liquidation or the cash deposit requirements described above. Failure to comply with the applicable requisite certification requirements may result in the merchandise being subject to the Order.

Certifications

To administer the preliminary affirmative country-wide determination of circumvention, Commerce has established importer and exporter certifications as provided in Appendix II to this notice. These certifications will permit importers and exporters to establish that specific entries of MSG from Malaysia are not subject to suspension of liquidation or the collection of cash deposits pursuant to this preliminary country-wide affirmative determination of circumvention because the merchandise was processed in Malaysia and does not incorporate Chinese-produced glutamic acid. Importers and exporters that claim that an entry of MSG is not subject to suspension of liquidation or the collection of cash deposits because the merchandise was processed in Malaysia and does not incorporate Chinese-produced glutamic acid must certify that the imported MSG satisfies the requirements of these certification requirements as described in Appendix II of this notice.

Certification Requirements

Importers are required to complete and maintain the applicable importer certification, and maintain a copy of the applicable exporter certification, and retain all supporting documentation for both certifications. The importer certification must be completed, signed, and dated by the time the entry summary is filed for the relevant entry. The importer, or the importer's agent, must submit both the importer's certification and the exporter's certification to CBP as part of the entry process by uploading them into the document imaging system (DIS) in the Automated Commercial Environment (ACE). Where the importer uses a broker to facilitate the entry process, the importer should obtain the entry summary number from the broker. Agents of the importer, such as brokers, however, are not permitted to certify on behalf of the importer.

Exporters are required to complete and maintain the applicable exporter certification and provide the importer with a copy of that certification and all supporting documentation (e.g., invoice, purchase order, production records, etc.). The exporter certification must be completed, signed, and dated by the time of shipment of the relevant entries. The exporter certification must be completed by the party selling the MSG that was processed in Malaysia and then exported to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For all entries of MSG from Malaysia that were entered, or withdrawn from warehouse, for consumption during the period May 15, 2024 (the date of publication of the initiation of this circumvention inquiry), through the date of publication of the preliminary determination in the Federal Register, where the entry has not been liquidated (and entries for which liquidation has not become final), the relevant certification should be completed and signed as soon as practicable, but not later than April 7, 2025. For such entries, importers and exporters each have the option to complete a blanket certification covering multiple entries, individual certifications for each entry, or a combination thereof. The exporter must provide the importer with a copy of the exporter certification by April 7, 2025.

For unliquidated entries (and entries for which liquidation has not become final) of MSG from Malaysia that were declared as non-AD type entries (e.g., type 01) and entered, or withdrawn from warehouse, for consumption in the United States during the applicable period of suspension of liquidation described above, through the date of publication of the preliminary determination in the Federal Register, for which none of the above certifications may be made, importers must file a Post Summary Correction with CBP, in accordance with CBP's regulations, regarding conversion of such entries from non-AD type entries to AD type entries (e.g., type 01 to type 03). Importers must report those AD type entries using the following third-country case number: A-557-992-000. The importer must pay cash deposits on those entries at a rate equal to the cash deposit rate for the China-wide entity under the Order consistent with the regulations governing post summary corrections that require payment of additional duties.

If it is determined that an importer or an exporter has not met the certification or related documentation requirements for certain entries, Commerce intends to instruct CBP to suspend, pursuant to this preliminary affirmative country-wide determination of circumvention of the Order, all unliquidated entries for which these requirements have not been met and to require the importer to post applicable cash deposits equal to the rate noted above.

Interested parties may comment on these certification requirements, and on the certification language contained in Appendix II to this notice in their case briefs.

Verification

As provided in 19 CFR 351.226(f)(3), Commerce intends to verify the information relied upon in making its final determination.

Public Comment and Request for Hearing

Case briefs or other written comments should be submitted to the Assistant Secretary for Enforcement and Compliance no later than seven days after the date on which any verification report is issued. Rebuttal briefs, limited to issues raised in case briefs, may be submitted no later than five days after the deadline for case briefs.¹³ Pursuant to 19 CFR 351.309(c)(2) and (d)(2), parties who submit case briefs or rebuttal briefs in these circumvention inquiries must submit: (1) a statement of the issue; and (2) a table of authorities.

¹³ See 19 CFR 351.309(d); see also Administrative Protective Order, Service, and Other Procedures in Antidumping and Countervailing Duty Proceedings, 88 FR 67069 (September 29, 2023) (APO and Service Final Rule).

As provided in 19 CFR 351.309(c)(2) and (d)(2), in prior segments we have encouraged interested parties to provide an executive summary of their brief that should be limited to five pages total, including footnotes. In this circumvention inquiry, we instead request that interested parties provide at the beginning of their briefs, a public executive summary for each issue raised in their briefs.¹⁴ Further, we request that interested parties limit their public executive summary of each issue to no more than 450 words, not including citations. We intend to use the public executive summaries as the basis of the comment summaries included in the issues and decision memorandum that will accompany the final determination in this circumvention inquiry. We request that interested parties include footnotes for relevant citations in the public executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice in the Federal Register, filed electronically via ACCESS. Hearing requests should contain: (1) the party's name, address, and telephone number; (2) the number of participants and whether any participant is a foreign national; and (3) a list of the issues to be discussed. Issues raised in the hearing will be limited to issues raised in the respective case briefs.¹⁶ If a request for a hearing is made, Commerce intends to hold the hearing at a date and time to be determined and will notify the parties through ACCESS.¹⁷ Parties should confirm the date, time, and location of the hearing two days before the scheduled date. All submissions, including case and rebuttal briefs, as well as hearing requests, should be filed using ACCESS. An electronically-filed document must be received successfully in its entirety by ACCESS by 5:00 p.m. Eastern Time on the established deadline.

¹⁶ See 19 CFR 351.310.

¹⁷ See 19 CFR 351.310(d).

U.S. International Trade Commission (ITC) Notification

Consistent with section 781(e) of the Act, Commerce will notify the ITC of this preliminary determination to include the merchandise subject to this circumvention inquiry within the Order. Pursuant to section 781(e) of the Act, the ITC may request consultations concerning Commerce's proposed inclusion of the inquiry merchandise. If, after consultations, the ITC believes that a significant injury issue is presented by the proposed inclusion, it will have 60 days from the date of notification by Commerce to provide written advice.

Notification to Interested Parties

Commerce is issuing and publishing this determination in accordance with section 781(b) of the Act and 19 CFR 351.226(g)(1).

Dated: February 14, 2025.
Christopher Abbott,
Deputy Assistant Secretary for Policy and Negotiations, performing the non-exclusive functions and duties of the Assistant Secretary for Enforcement and Compliance.

Appendix I—Topics Discussed in the Preliminary Decision Memorandum

I. Summary

II. Background

III. Scope of the Order

IV. Merchandise Subject to the Circumvention Inquiry

V. Period of Inquiry

VI. Use of Facts Otherwise Available and Application of Adverse Inferences

VII. Surrogate Country and Valuation Methodology for Inputs From China

VIII. Statutory Framework

IX. Statutory Analysis

X. Other Statutory Criteria

XI. Summary of Statutory Analysis

XII. Certification Process and Country-Wide Affirmative Determination of Circumvention

XIII. Recommendation

Appendix II—Importer Certification

I hereby certify that:

(A) My name is {IMPORTING COMPANY OFFICIAL'S NAME} and I am an official of {NAME OF IMPORTING COMPANY}, located at {ADDRESS OF IMPORTING COMPANY}.

(B) I have direct personal knowledge of the facts regarding the importation into the Customs territory of the United States of the monosodium glutamate (MSG) assembled or completed in Malaysia that entered under the entry summary number(s), identified below, and are covered by this certification. “Direct personal knowledge” refers to facts the certifying party is expected to have in its own records. For example, the importer must have direct personal knowledge of the importation of the product, including the exporter's and/or foreign seller's identity and location.

(C) If the importer is acting on behalf of the first U.S. customer, include the following sentence as paragraph C of this certification:

The MSG covered by this certification was imported by {IMPORTING COMPANY} on behalf of {U.S. CUSTOMER}, located at {ADDRESS OF U.S. CUSTOMER}.

If the importer is not acting on behalf of the first U.S. customer, include the following sentence as paragraph C of this certification:

{NAME OF IMPORTING COMPANY} is not acting on behalf of the first U.S. customer.

(D) The MSG covered by this certification was shipped to {NAME OF PARTY IN THE UNITED STATES TO WHOM THE MERCHANDISE WAS FIRST SHIPPED}, located at {U.S. ADDRESS TO WHICH MERCHANDISE WAS SHIPPED}.

(E) I have personal knowledge of the facts regarding the production of the imported products covered by this certification. “Personal knowledge” includes facts obtained from another party, (e.g., correspondence received by the importer (or exporter) from the producer regarding the source of the inputs (i.e., glutamic acid) used to produce the imported MSG).

(F) This certification applies to the following entries (repeat this block as many times as necessary):

Entry Summary #:

Entry Summary Line Item #:

Foreign Seller:

Foreign Seller's Address:

Foreign Seller's Invoice #:

Foreign Seller's Invoice Line Item #:

Country of Origin of Glutamic Acid:

Producer:

Producer's Address:

(G) The MSG covered by this certification was not produced using glutamic acid produced in the People's Republic of China.

(H) I understand that {IMPORTING COMPANY} is required to maintain a copy of this certification and sufficient documentation supporting this certification (i.e., documents maintained in the normal course of business, or documents obtained by the certifying party, for example, certificates of origin, product data sheets, mill test reports, productions records, invoices, etc.) until the later of: (1) the date that is five years after the date of the latest entry covered by the certification; or (2) the date that is three years after the conclusion of any litigation in the United States courts regarding such entries.

(I) I understand that {IMPORTING COMPANY} is required to maintain a copy of the exporter's certification (attesting to the production and/or exportation of the imported merchandise identified above), and any supporting documentation provided to the importer by the exporter, until the later of: (1) the date that is five years after the date of the latest entry covered by the certification; or (2) the date that is three years after the conclusion of any litigation in United States courts regarding such entries.

(J) I understand that {IMPORTING COMPANY} is required to provide U.S. Customs and Border Protection (CBP) and/or the U.S. Department of Commerce (Commerce) with the importer certification, and any supporting documentation, and a copy of the exporter's certification, and any supporting documentation provided to the importer by the exporter, upon request of either agency.

(K) I understand that the claims made herein, and the substantiating documentation, are subject to verification by CBP and/or Commerce.

(L) I understand that failure to maintain the required certification and supporting documentation, or failure to substantiate the claims made herein, or not allowing CBP and/or Commerce to verify the claims made herein, may result in a de facto determination that all entries to which this certification applies are within the scope of the antidumping duty order on MSG from China. I understand that such finding will result in:

(i) suspension of liquidation of all unliquidated entries (and entries for which liquidation has not become final) for which these requirements were not met;

(ii) the importer being required to post the cash deposits determined by Commerce; and

(iii) the importer no longer being allowed to participate in the certification process.

(M) I understand that agents of the importer, such as brokers, are not permitted to make this Certification.

This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

(N) I am aware that U.S. law (including, but not limited to, 18 U.S.C. § 1001) imposes criminal sanctions on individuals who knowingly and willfully make material false statements to the U.S. government.

Signature

{NAME OF COMPANY OFFICIAL}

{TITLE OF COMPANY OFFICIAL}

{DATE}

Exporter Certification

The party that made the sale to the United States must fill out the exporter certification.

I hereby certify that:

(A) My name is {COMPANY OFFICIAL'S NAME} and I am an official of {NAME OF FOREIGN COMPANY THAT MADE THE SALE TO THE UNITED STATES); located at {ADDRESS OF FOREIGN COMPANY THAT MADE THE SALE TO THE UNITED STATES).

(B) I have direct personal knowledge of the facts regarding the production and exportation of the monosodium glutamate (MSG) for which sales are identified below.“Direct personal knowledge” refers to facts the certifying party is expected to have in its own records. For example, an exporter must have direct personal knowledge of the producer's identity and location.

(C) The MSG covered by this certification was shipped to {NAME OF PARTY IN THE UNITED STATES TO WHOM THE MERCHANDISE WAS FIRST SHIPPED}, located at {U.S. ADDRESS TO WHICH THE MERCHANDISE WAS SHIPPED}.

(D) The MSG covered by this certification was not produced using glutamic acid produced in the People's Republic of China.

(E) This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer Name:

Producer's Address:

Producer's Invoice # to Foreign Seller: (If the foreign seller and the producer are the same party, put NA here.)

Name of Producer of Glutamic Acid:

Location (Country) of Producer of Glutamic Acid:

(F) The MSG covered by this certification was shipped to {NAME OF U.S. PARTY TO WHOM MERCHANDISE WAS SHIPPED}, located at {U.S. ADDRESS TO WHICH MERCHANDISE WAS SHIPPED}.

(G) I understand that {NAME OF FOREIGN COMPANY THAT MADE THE SALE TO THE UNITED STATES} is required to maintain a copy of this certification and sufficient documentation supporting this certification (i.e., documents maintained in the normal course of business, or documents obtained by the certifying party, for example, product data sheets, mill test reports, productions records, invoices, etc.) until the later of: (1) the date that is five years after the latest date of the entries covered by the certification; or (2) the date that is three years after the conclusion of any litigation in the United States courts regarding such entries.

(H) I understand that {NAME OF FOREIGN COMPANY THAT MADE THE SALE TO THE UNITED STATES} is required to provide the U.S. importer with a copy of this certification and is required to provide U.S. Customs and Border Protection (CBP) and/or the U.S. Department of Commerce (Commerce) with this certification, and any supporting documents, upon request of either agency.

(I) I understand that the claims made herein, and the substantiating documentation, are subject to verification by CBP and/or Commerce.

(J) I understand that failure to maintain the required certification and supporting documentation, or failure to substantiate the claims made herein, or not allowing CBP and/or Commerce to verify the claims made herein, may result in a de facto determination that all sales to which this certification applies are within the scope of the antidumping duty order on MSG from China. I understand that such a finding will result in:

(i) suspension of all unliquidated entries (and entries for which liquidation has not become final) for which these requirements were not met;

(ii) the importer being required to post the cash deposits determined by Commerce; and

(iii) the seller/exporter no longer being allowed to participate in the certification process.

(K) I understand that agents of the seller/exporter, such as freight forwarding companies or brokers, are not permitted to make this certification.

(L) This certification was completed and signed, and a copy of the certification was provided to the importer, on, or prior to, the date of shipment if the shipment date is more than 14 days after the date of publication of the notice of Commerce's preliminary determination of circumvention in the Federal Register. If the shipment date is on or before the 14th day after the date of publication of the notice of Commerce's preliminary determination of circumvention in the Federal Register, this certification was completed and signed, and a copy of the certification was provided to the importer, by no later than 45 days after publication of the notice of Commerce's preliminary determination of circumvention in the Federal Register.

(M) I am aware that U.S. law (including, but not limited to, 18 U.S.C.§ 1001) imposes criminal sanctions on individuals who knowingly and willfully make material false statements to the U.S. government.

Signature

{NAME OF COMPANY OFFICIAL}

{TITLE OF COMPANY OFFICIAL}

{DATE}

[FR Doc. 2025-02924 Filed 2-20-25; 8:45 am]

BILLING CODE 3510-DS-P